FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 18, 2012.

A. Federal Reserve Bank of San Francisco (Kenneth Binning, Vice President, Applications and Enforcement) 101 Market Street, San Francisco, California 94105-1579:

1. Gapstow Capital Partners, L.P.; CJA Private Equity Financial Restructuring Master Fund I, L.P.; CJA Private Equity Financial Restructuring Fund I, Ltd., and its investors; CJA Private Equity Financial Restructuring GP I, Ltd.; Christopher J. Acito & Associates GP, LLC; Christopher J. Acito; and Jack T. Thompson; all of New York, New York; and Timothy S.F. Jackson, Newtown, Connecticut; to acquire voting shares of Oregon Pacific Bancorp, and thereby indirectly acquire voting shares of Oregon Pacific Banking Co. (doing business as Oregon Pacific Bank), both in Florence, Oregon.

Board of Governors of the Federal Reserve System, August 29, 2012.
Robert deV. Frierson,
Secretary of the Board.

[FR Doc. 2012-21694 Filed 8-31-12; 8:45 am]

BILLING CODE 6210-01-P